DEPARTMENT OF COMMERCE

International Trade Administration

Export Trade Certificate of Review

ACTION: Notice of Issuance of an Amended Export Trade Certificate of Review, Application No. 84-11A12.

SUMMARY: The Department of Commerce has issued an amendment to the Export Trade Certificate of Review granted to Northwest Fruit Exporters (“NFE”) on June 11, 1984. Notice of issuance of the Certificate was published in the Federal Register on June 14, 1984 (49 FR 24581).

FOR FURTHER INFORMATION CONTACT: Morton Schnabel, Director, Office of Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (1999).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 84-00012, was issued to NFE on June 11, 1984 (49 FR 24581, June 14, 1984) and previously amended on May 2, 1988 (53 FR 16306, May 6, 1988); September 21, 1988 (53 FR 37628, September 27, 1988); September 20, 1989 (54 FR 39454, September 26, 1989); November 19, 1992 (57 FR 55510, November 25, 1992); August 16, 1994 (59 FR 43093, August 22, 1994); November 4, 1996 (61 FR 57850, November 8, 1996); October 22, 1997 (62 FR 55783, October 28, 1997); November 2, 1998 (63 FR 60304, November 9, 1998); and October 20, 1999 (64 FR 57438, October 25, 1999).

NFE's Export Trade Certificate of Review has been amended to:

1. Add each of the following companies as a new “Member” of the Certificate within the meaning of section 325.2(1) of the Regulations (15 CFR 325.2(1)): Apple Country, Inc., Wapato, Washington; Cashmere Fruit Exchange, Cashmere, Washington; Dole Northwest, Wenatchee, Washington; IM EX Trading Company, Yakima, Washington; Inland—Joseph Fruit Company, Wapato, Washington; (controlling entity: Inland Fruit & Produce Co., Inc.); PAC Marketing International, LLC, Yakima, Washington; Sage Marketing LLC, Yakima, Washington (controlling entities: Olympic Fruit, Columbia Reach and Valley Fruit); Voelker Fruit & Cold Storage, Inc., Yakima, Washington; and Washington Export, LLC, Yakima, Washington; and

2. Delete the following companies as “Members” of the Certificate: Crandell Fruit Company, Wenatchee, Washington; George F. Joseph Orchard, Yakima, Washington; Gwin, White & Prince, Inc., Wenatchee, Washington; H & H Orchards Packing, Inc., Malaga, Washington; Inland Fruit & Produce Co., Wapato, Washington; Johnny Appleseed of WA/CRO Fruit Co., Wenatchee, Washington, Majestic Valley Produce, Wenatchee, Washington; and Valicoff Fruit Company, Inc., Wapato, Washington.

Special Note: NFE also requested to amend its Certificate to change the name of one current Member from Blue Bird, Inc. to Washington Cherry Growers but later stated that this name change was a mistake.

A copy of the amended certificate will be kept in the International Trade Administration's Freedom of Information Records Inspection Facility, Room 4102, U.S. Department of Commerce, 14th Street and Constitution Avenue, NW., Washington, DC 20230.

Dated: October 16, 2000.
Morton Schnabel,
Director, Office of Export Trading Company Affairs.

[FR Doc. 00-27214 Filed 10-23-00; 8:45 am]

BILLING CODE 3510-DR-P